DEPARTMENT OF HEALTH AND HUMAN SERVICES

Centers for Disease Control and Prevention

[60Day-15-15ZK]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Research on the Efficacy and Feasibility of Essentials for Parenting Toddlers and Preschoolers—New—National Center for Injury Prevention and Control (NCIPC), Centers for Disease Control and Prevention (CDC).

Background and Brief Description

It is estimated that 1 in 58 U.S. children had been maltreated in a 1-year period (i.e., victims of physical, sexual, and emotional abuse or neglect). Parent training is arguably the single most effective prevention initiative recognized to date. The Centers for Disease Control and Prevention has developed “Essentials for Parenting Toddlers and Preschoolers” (EFP). This web-based resource uses a psychoeducational approach incorporating modeling (through its videos) and practice (through its activities). Thus, EFP is likely to improve parenting (e.g., discipline practices), reduce child behavior problems, and may ultimately reduce child maltreatment. Moreover, it is free for parents and can be accessed through any device that can use the Internet, including computers, tablets, and smart phones. If it proves to be effective, it may ultimately be less expensive to develop, evaluate, and disseminate EFP.

CDC is proposing an information collection to OMB for a period of one year. The purpose of this data collection request is to determine whether a web-based platform for delivery of positive parenting information yields changes in parent and child behaviors that are consistent with those observed in the clinic setting. If EFP is successful at increasing positive parenting and safe, stable, nurturing relationships and environments for children, then CDC has a resource that can be easily and freely disseminated to communities that can potentially impact rates of child maltreatment.

We will conduct a two-arm study of 200 parents of 2- to 4-year-old children. In one arm, parents will be guided in how and when they use specific intervention modules. In the other arm, parents will have access to the same EFP content but will use as much or as little of the intervention as they wish and on whatever time line they wish. Parents in both arms will complete assessments of child externalizing behavior, parenting behaviors (e.g., use of praise and time outs), parenting thoughts (e.g., perceived parenting competence and burden), and parent psychological adjustment (e.g., depression and anxiety), as well as knowledge and perceived usefulness of EFP intervention content. The impact of this data collection on participants' privacy is low.

The survey data will be housed in a database on encrypted, password protected electronic storage files. All information shared will be in an aggregate form for the scientific community. The data will be translated for practitioners and others engaged in parent training work. Data that are collected will be stored physically and electronically by the contractors collecting the respective data at their offices. De-identified electronic database(s) will be transferred to CDC. Any hard copies of data will be destroyed after the data has been successfully entered, cleaned and backed up into the database. We anticipate that the surveys will take between 15 minutes to 45 minutes to complete (depending on which survey is being completed).

The proposed data collection fits into the National Center for Injury Prevention and Control Research Agenda Priorities in Preventing Child Maltreatment. Research is essential to ensure effects on parenting are achieved using the new delivery platform. If Essentials for Parenting Toddlers and Preschoolers is successful at increasing positive parenting and safe, stable, nurturing relationships and environments for children, then CDC has a resource that can be easily and freely disseminated to communities. Ultimately, the results of the work will be disseminated to researchers, states, and the public.

There are no costs to the respondents other than their time. The total estimated annual burden hours are 1,950.

Estimated Annualized Burden Hours
Type of respondent | Form name | Number of respondents | Number of responses per respondent | Average burden per response (in hrs) | Total burden (in hrs)
Parents (both Natural Navigation [NN] and Guided Navigation [GN] groups) | Screening and Demographics Questionnaires | 200 | 1 | 15/60 | 50
| Detailed Assessment Measures | 200 | 2 | 45/60 | 300
| Core Assessment Measures (Rotating) | 200 | 16 | 15/60 | 800
| Parental EFP Skills Knowledge Scale | 200 | 10 | 15/60 | 500
| Parental EFP Skills Usefulness Scale | 200 | 5 | 15/60 | 250
| Therapy Attitude Inventory and System Usability Scale | 200 | 1 | 15/60 | 50
Total |  |  |  |  | 1,950

Leroy A. Richardson,
Chief, Information Collection Review Office, Office of Scientific Integrity, Office of the Associate Director for Science, Office of the Director, Centers for Disease Control and Prevention.

[FR Doc. 2015-01093 Filed 1-22-15; 8:45 am]

BILLING CODE 4163-18-P